DEPARTMENT OF DEFENSE

Office of the Secretary

[Docket ID: DOD-2016-OS-0021]

Privacy Act of 1974; System of Records

AGENCY: Office of the Inspector General, DoD.

ACTION: Notice to alter a System of Records.

SUMMARY: The Office of Inspector General proposes to alter a system of records, CIG-16, Defense Case Activity Tracking System (D-CATS) to carry out its responsibilities pursuant to the Inspector General Act of 1978, as amended. The OIG is statutorily directed to conduct and supervise investigations relating to the programs and operations of the Department of Defense, to promote economy, efficiency, and effectiveness in the administration of such programs and operations, and to prevent and detect fraud, waste, and abuse in such programs and operations. Accordingly, the records in this system are used in the course of investigating individuals suspected of administrative or criminal misconduct.

This system is also used for case management, case tracking, information storage, to respond to requests for information, and to fulfill mandatory reporting requirements. It fulfills these purposes by enabling users to record complaints, allegations of wrongdoing, and requests for assistance; to document inquiries; to store investigative case records; to compile statistical information; to provide prompt, responsive and accurate information regarding the status of ongoing cases; to provide a record of complaint disposition; and to record actions taken and notifications of interested parties and agencies.

DATES: Comments will be accepted on or before April 18, 2016. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mark Dorgan, DoD IG FOIA/Privacy Office, Department of Defense, Office of Inspector General, 4800 Mark Center Drive, Alexandria, VA 22350-1500 or telephone: (703) 699-5680.

SUPPLEMENTARY INFORMATION: The Office of Inspector General notices for systems of records subject to the Privacy Act of 1974 (5 U.S.C. 552a), as amended, have been published in the Federal Register and are available from the address in FOR FURTHER INFORMATION CONTACT or from the Defense Privacy and Civil Liberties Web site at http://dpcld.defense.gov/.

The proposed systems reports, as required by 5 U.S.C. 552a(r) of the Privacy Act, as amended, were submitted on March 7, 2016, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: March 14, 2016.
Aaron Siegel,
Alternate OSD Federal Register Liaison Officer, Department of Defense.

CIG-16

System name:

Defense Case Activity Tracking System (D-CATS) (July 26, 2013, 78 FR 45185)

Changes:

* * * * *

System location:

Delete entry and replace with “Office of the Deputy Inspector General for Administrative Investigations, Office of Inspector General Department of Defense (DoD), 4800 Mark Center Drive, Alexandria, VA 22350-1500.”

Categories of individuals covered by the system:

Delete entry and replace with “DoD employees, military personnel, members of the general public, and contractors who file hotline complaints; individuals alleged to have been involved in administrative or criminal misconduct including but not limited to fraud, waste, mismanagement, or whistleblower reprisal; individuals involved in matters investigated by the Office of Inspector General; and individuals identified as having been adversely affected by matters being investigated by the Office of Inspector General.”

Categories of records in the system:

Delete entry and replace with “Records resulting from the referral of, and inquiry into, hotline complaints, whistleblower reprisal investigations, improper mental health evaluations, and senior official investigations, including the allegations submitted to the DoD Inspector General, referral documents to DoD components, investigative reports, information received from witnesses, information gathered by investigators, records of action taken, disposition of the case, and supporting documentation. Data points include names, case numbers, home and work addresses, email addresses, duty positions, phone numbers (work, mobile).”

* * * * *

Purpose(s):

Delete entry and replace with “The OIG maintains this system of records in order to carry out its responsibilities pursuant to the Inspector General Act of 1978, as amended. The OIG is statutorily directed to conduct and supervise investigations relating to the programs and operations of the Department of Defense, to promote economy, efficiency, and effectiveness in the administration of such programs and operations, and to prevent and detect fraud, waste, and abuse in such programs and operations. Accordingly, the records in this system are used in the course of investigating individuals suspected of administrative or criminal misconduct.

This system is also used for case management, case tracking, information storage, to respond to requests for information, and to fulfill mandatory reporting requirements. It fulfills these purposes by enabling users to record complaints, allegations of wrongdoing, and requests for assistance; to document inquiries; to store investigative case records; to compile statistical information; to provide prompt, responsive and accurate information regarding the status of ongoing cases; to provide a record of complaint disposition; and to record actions taken and notifications of interested parties and agencies.

Complaints appearing to involve criminal wrongdoing are referred to the Defense Criminal Investigative Service or other criminal investigative units of DoD components.”

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

To appropriate officials and employees of a federal agency or entity to which information may be relevant to a decision concerning the hiring, appointment, or retention of an individual; the issuance, renewal, suspension, or revocation of a security clearance; the execution of a security or suitability investigation; the letting of a contract; or the issuance or revocation of a grant or benefit.

To the news media and the public, unless it is determined that release of the specific information in the context of a particular case would constitute an unwarranted invasion of personal privacy.

To complainants, to the extent necessary to provide such persons with information and explanations concerning the progress and/or results of the investigation or case arising from the matters of which they complained.

The DoD Blanket Routine Uses set forth at the beginning of the Office of the Inspector General compilation of systems of records notices may apply to this system. The complete list of DoD Blanket Routine Uses can be found online at: http://dpcld.defense.gov/Privacy/SORNsIndex/BlanketRoutineUses.aspx.”

* * * * *

Retrievability:

Delete entry and replace with “By complainant's name, subject's name, or case number.”

Safeguards:

Delete entry and replace with “Full access is limited to Administrative Investigations staff. Read only access is provided to authorized DoD IG personnel consistent with their official duties. Paper and electronic records are stored in rooms protected by cipher lock, common access card RFID, and PIN. Necessary government and contractor IT staff also have full access to the electronic system, but not paper records. Regular back-ups of the electronic data are performed and stored at the Mark Center and at an off-site location, for the purpose of providing continuity of operations.”

* * * * *

System manager(s) and address:

Delete entry and replace with “Deputy Inspector General for Administrative Investigations, Office of Inspector General, Department of Defense, 4800 Mark Center Drive, Alexandria, VA 22350-1500.”

Notification procedure:

Delete entry and replace with “Individuals seeking to determine whether information about themselves is contained in this system should address written inquiries to the Chief, Freedom of Information Act Requester Service Center/Privacy Act Office, Office of General Counsel, Office of Inspector General, DoD, 4800 Mark Center Drive, Alexandria, VA 22350-1500.

For verification purposes, individuals shall provide their full name, address, any details which may assist in locating records of the individual, and their signature.

In addition, the requester must provide a notarized statement or a signed declaration made in accordance with 28 U.S.C. 1746, in the following format:

If executed outside the United States: ‘I declare under penalty of perjury under the laws of the United States of America that the foregoing is true and correct. Executed on (date).' (Signature).

If executed within the United States, its territories, possessions, or commonwealths: ‘I declare under penalty of perjury that the foregoing is true and correct. Executed on (date).' (Signature).”

Record access procedures:

Delete entry and replace with “Individuals seeking access to information about themselves contained in this system, should address written inquiries to the Chief, Freedom of Information Act Requester Service Center/Privacy Act Office, Office of General Counsel, Office of Inspector General, DoD, 4800 Mark Center Drive, Alexandria, VA 22350-1500.

For verification purposes, individuals shall provide their full name, address, any details which may assist in locating records of the individual, and their signature.

In addition, the requester must provide a notarized statement or a signed declaration made in accordance with 28 U.S.C. 1746, in the following format:

If executed outside the United States: ‘I declare under penalty of perjury under the laws of the United States of America that the foregoing is true and correct. Executed on (date).' (Signature).

If executed within the United States, its territories, possessions, or commonwealths: ‘I declare under penalty of perjury that the foregoing is true and correct. Executed on (date).' (Signature).”

* * * * *

Record source categories:

Delete entry and replace with: “Complainants, sources, subjects, witnesses, all levels of government, private businesses, and nonprofit organizations, internet Web sites, DoD Global Directory Service, DoD white-pages.”

Exemptions claimed for the system:

Delete entry and replace with “Parts of this system may be exempt pursuant to 5 U.S.C. 552a(j)(2), if the information is compiled and maintained by a component of the agency which performs as it principal function any activity pertaining to the enforcement of criminal laws.

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated in accordance with the requirements of 5 U.S.C. 553(b)(1), (2), and (3), (c) and (e) and published in 32 CFR part 312.”

[FR Doc. 2016-06056 Filed 3-16-16; 8:45 am]

BILLING CODE 5001-06-P